DEPARTMENT OF DEFENSE

Department of the Army; Corps of Engineers

Notice of Availability for a Draft General Conformity Determination for the Pacific L.A. Marine Terminal LLC Crude Oil Terminal Project, Port of Los Angeles, Los Angeles County, CA

AGENCY: Department of the Army—U.S. Army Corps of Engineers, DoD.

ACTION: Notice of availability.

SUMMARY: In November 2008, the Los Angeles Harbor Department (LAHD) and the U.S. Army Corps of Engineers, Los Angeles District, Regulatory Division (Corps) published a joint Final Supplemental Environmental Impact Statement and Subsequent Environmental Impact Report (SEIS/SEIR) for the development of a marine oil terminal at Berth 408 on Pier 400 in the Port of Los Angeles, Los Angeles County, California (Project). The Corps is currently processing a permit application submitted by the LAHD to undertake various activities and construct structures in and over navigable waters of the U.S. associated with the Project. Issuance of a Corps permit is a Federal action, which must comply with the air quality general conformity requirements specified in Section 176(c) of the Clean Air Act.

The general conformity regulations (40 CFR part 93, subpart B) allow general conformity determinations to be included in an EIS, but inclusion of these determinations is not required and can be separately noticed as it is in this case. The draft general conformity determination for the Federal action associated with the Project is available for public review during the next 30 days at the Los Angeles Harbor Department, 425 South Palos Verdes Street, San Pedro, California, on the Port's Web site: http://www.portoflosangeles.org, and on the Corps' Web site: http://www.spl.usace.army.mil/regulatory/POLA.htm (scroll down to the links under Pier 400 Crude Oil Marine Terminal). In addition, it is available at the following libraries: L.A. Public Library, Central Branch, 630 West 5th Street, Los Angeles California; L.A. Public Library, San Pedro Branch, 921 South Gaffey Street, San Pedro, California; and L.A. Public Library, Wilmington Branch, 1300 North Avalon, Wilmington, California.

Any comments received by the Corps on the draft general conformity determination during the next 30 days will be considered fully before the Corps makes a final general conformity determination and finalizes the Record of Decision (ROD) for the Federal action associated with the Project. The Corps will publish a notice of a final general conformity determination in the Federal Register within 30 days of rendering a final decision. The public can request from the Corps copies of the ROD, which includes responses to comments on the Final SEIS and draft general conformity determination, following publication of a final general conformity determination and upon execution of the ROD.

FOR FURTHER INFORMATION CONTACT: Questions or comments concerning the draft general conformity determination should be directed within the next 30 days to Dr. Spencer D. MacNeil, Senior Project Manager, North Coast Branch, Regulatory Division, U.S. Army Corps of Engineers, 2151 Alessandro Drive, Suite 110, Ventura, California 93001, (805) 585-2152.

SUPPLEMENTARY INFORMATION: None.

David J. Castanon,
Chief, Regulatory Division, Los Angeles District.

[FR Doc. 2010-3261 Filed 2-18-10; 8:45 am]

BILLING CODE 3710-KF-P